DEPARTMENT OF COMMERCE

National Oceanic and Atmospheric Administration

Proposed Information Collection; Comment Request; Alaska Cooperatives in the Bering Sea and Aleutian Islands

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 6, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Patsy A. Bearden, at (907) 586-7008 or patsy.bearden@noaa.gov.

SUPPLEMENTARY INFORMATION:

I. Abstract

The American Fisheries Act (AFA) was signed into law in October of 1998. The AFA established an allocation program for the pollock fishery of the Bering Sea and Aleutian Islands Management Area (BSAI). The AFA established a limited access program for the inshore sector of the BSAI pollock fishery that is based on the formation of fishery cooperatives around each inshore pollock processor. Implementing regulations are found at 50 CFR part 679, subpart F.

The original purposes of the AFA were to tighten United States ownership standards that had been exploited under the Anti-reflagging Act, to provide Alaska's BSAI pollock fleet the opportunity to conduct their fishery in a more rational manner, and to protect non-AFA participants in other fisheries. In addition, a voluntary civil agreement among pollock cooperatives, Western Alaska Community Development Quota (CDQ) groups, and western Alaska subsistence salmon user groups is intended to coordinate the pollock fishery in a manner that reduces incidental catch rates of salmon.

Reduced bycatch, higher utilization rates, increased economic returns, and improved safety are among the direct benefits of the AFA. The flexibility provided by cooperatives and by individual vessel allocations of pollock and other species has allowed the BSAI pollock fleet to spread their fishing effort in time and space. The cooperative management structure has shifted more of the monitoring and enforcement burden to the cooperatives and their members, allowing NMFS to manage the fishery more precisely. The AFA cooperative annual reports are required to provide information about how the cooperative allocated pollock, other groundfish species, and prohibited species among the vessels in the cooperative; the catch of these species by area for each vessel in the cooperative; information about how the cooperative monitored fishing by its members; and a description of any actions taken by the cooperative to penalize vessels that exceeded the catch and bycatch allocations made to the vessel by the cooperative.

II. Method of Collection

For those items not connected with a scale, respondents have a choice of either electronic or paper forms. Methods of submittal include e-mail of electronic forms, and mail and facsimile transmission of paper forms.

III. Data

OMB Control Number: 0648-0401.

Form Number: None.

Type of Review: Regular submission.

Affected Public: Individuals or households; business or other for-profit organizations.

Estimated Number of Respondents: 11.

Estimated Time per Response: 12 hours for AFA Annual Report; 30 minutes for Nonmember vessel contract fishing application; 5 minutes for Inshore catcher vessel cooperative pollock catch report; 5 minutes for Agent for service of process; 40 hours for Salmon Bycatch Reduction Inter-Cooperative Agreement (ICA); and 4 hours for ICA appeals.

Estimated Total Annual Burden Hours: 470.

Estimated Total Annual Cost to Public: $225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 2, 2010.
Gwellnar Banks,
Management Analyst, Office of the Chief Information Officer.

[FR Doc. 2010-2503 Filed 2-4-10; 8:45 am]

BILLING CODE 3510-22-P